DEPARTMENT OF ENERGY

Federal Energy Regulatory Commission

Combined Notice of Filings #1

Take notice that the Commission received the following electric rate filings:

Docket Numbers: ER10-1959-006; ER15-2014-003; ER15-2013-005; ER15-2020-004; ER15-2018-003; ER15-2022-003; ER15-2026-003; ER17-105-002; ER17-104-002; ER17-556-001; ER10-2432-012; ER10-2435-012; ER10-2440-010; ER10-71-004; ER10-2444-012; ER10-2446-010; ER10-2449-010; ER13-2308-005; ER12-2510-007; ER12-2512-007; ER12-2513-007; ER10-3286-011; ER10-3299-010; ER10-3310-012; ER11-2489-009; ER12-726-007; ER12-2639-007; ER11-3620-010; ER12-1431-008; ER12-1434-008; ER12-1432-008; ER12-1435-008; ER13-2102-006; ER14-1439-006; ER15-1019-005; ER10-2628-005; ER11-3959-007.

Applicants: Lower Mount Bethel Energy, LLC, Brunner Island, LLC, Talen Energy Marketing, LLC, Talen Montana, LLC, Martins Creek, LLC, Montour, LLC, Susquehanna Nuclear, LLC, Broadview Energy JN, LLC, Broadview Energy KW, LLC, Grady Wind Energy Center, LLC, Bayonne Plant Holding, L.L.C., Camden Plant Holding, L.L.C., Dartmouth Power Associates Limited Partnership, Elmwood Park Power, LLC, Newark Bay Cogeneration Partnership, L.P., Pedricktown Cogeneration Company LP, York Generation Company LLC, Sapphire Power Marketing LLC, Brandon Shores LLC, H.A. Wagner LLC, Raven Power Marketing LLC, Millennium Power Partners, LP, New Athens Generating Company, LLC, New Harquahala Generating Company, LLC, Hatchet Ridge Wind, LLC, Spring Valley Wind LLC, Ocotillo Express LLC, Lyonsdale Biomass, LLC, ReEnergy Ashland LLC, ReEnergy Fort Fairfield LLC, ReEnergy Livermore Falls LLC, ReEnergy Stratton LLC, ReEnergy Black River LLC, TrailStone Power, LLC, Fowler Ridge IV Wind Farm LLC, Lost Creek Wind, LLC, Post Rock Wind Power Project, LLC.

Description: Notice of Non-Material Change in Status of the Riverstone MBR Entities.

Filed Date: 2/27/17.

Accession Number: 20170227-5242.

Comments Due: 5 p.m. ET 3/20/17.

Docket Numbers: ER16-2100-001; ER16-2101-001.

Applicants: Gila River Power LLC.

Description: Second Supplement to June 30, 2016 and October 3, 2016 Updated Market Power Analysis for Southwest Region of Gila River Power LLC, et. al.

Filed Date: 2/28/17.

Accession Number: 20170228-5360.

Comments Due: 5 p.m. ET 3/21/17.

Docket Numbers: ER17-468-002.

Applicants: Ohio Valley Electric Corporation.

Description: Compliance filing: Errata to December 1 Amendment Filing to be effective 10/14/2016.

Filed Date: 2/28/17.

Accession Number: 20170228-5246.

Comments Due: 5 p.m. ET 3/21/17.

Docket Numbers: ER17-1057-000.

Applicants: PJM Interconnection, L.L.C.

Description: § 205(d) Rate Filing: Revisions to OA Sched 1, sec 7.9 and OATT Att K-Appx, sect 7.9 RE Residual ARR to be effective 5/1/2017.

Filed Date: 2/28/17.

Accession Number: 20170228-5235.

Comments Due: 5 p.m. ET 3/21/17.

Docket Numbers: ER17-1060-000.

Applicants: Public Service Company of Colorado.

Description: § 205(d) Rate Filing: PSCo-TSGT-JM Shafer IA 114 0.1.0 to be effective 2/28/2017.

Filed Date: 2/28/17.

Accession Number: 20170228-5248.

Comments Due: 5 p.m. ET 3/21/17.

Docket Numbers: ER17-1061-000.

Applicants: Midcontinent Independent System Operator, Inc.

Description: § 205(d) Rate Filing: 2017-02-28_Submittal of pro forma Pseudo-Tie Agreement & assoc. tariff revisions to be effective 3/15/2017.

Filed Date: 2/28/17.

Accession Number: 20170228-5287.

Comments Due: 5 p.m. ET 3/21/17.

Docket Numbers: ER17-1063-000.

Applicants: PJM Interconnection, L.L.C.

Description: § 205(d) Rate Filing: Queue Position AB2-057, Original Service Agreement No. 4648 to be effective 1/31/2017.

Filed Date: 3/1/17.

Accession Number: 20170301-5087.

Comments Due: 5 p.m. ET 3/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2017.
Nathaniel J. Davis, Sr.,
Deputy Secretary.

[FR Doc. 2017-04409 Filed 3-6-17; 8:45 am]

BILLING CODE 6717-01-P